DEPARTMENT OF TRANSPORTATION

Federal Aviation Administration

14 CFR Part 39

[Docket No. FAA-2005-23007; Directorate Identifier 2005-NM-013-AD]

RIN 2120-AA64

Airworthiness Directives; Airbus Model A310-200 and -300 Series Airplanes

AGENCY: Federal Aviation Administration (FAA), Department of Transportation (DOT).

ACTION: Proposed rule; withdrawal.

SUMMARY: The FAA withdraws a notice of proposed rulemaking (NPRM) that proposed a new airworthiness directive (AD) for certain Airbus Model A310-200 and -300 series airplanes. The proposed AD would have required repetitive inspections for cracks and corrosion of the areas behind the scuff plates below the passenger/crew doors and bulk cargo door, and repair of any cracked or corroded part. The proposed AD also would have required repetitive inspections for cracks of the holes of the corner doublers, the fail-safe ring, and the door frames of the passenger/crew door structures. Since the proposed AD was issued, we have determined that that the proposed inspections and terminating action are essentially identical to those of another existing AD. Accordingly, the proposed AD is withdrawn.

ADDRESSES: You may examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street, SW., Room PL-401, Washington, DC. This docket number is FAA-2005-23007; the directorate identifier for this docket is 2005-NM-013-AD.

FOR FURTHER INFORMATION CONTACT: Tom Stafford, Aerospace Engineer, International Branch, ANM-116, FAA, Transport Airplane Directorate, 1601 Lind Avenue, SW., Renton, Washington 98055-4056; telephone (425) 227-1622; fax (425) 227-1149.

SUPPLEMENTARY INFORMATION:

Discussion

We proposed to amend part 39 of the Federal Aviation Regulations (14 CFR part 39) with a notice of proposed rulemaking (NPRM) for a new AD for certain Airbus Model A310-200 and -300 series airplanes. That NPRM was published in the Federal Register on November 21, 2005 (70 FR 70048). The NPRM would have required repetitive inspections for cracks and corrosion of the areas behind the scuff plates below the passenger/crew doors and bulk cargo door, and repair of any cracked or corroded part. The NPRM also would have required repetitive inspections for cracks of the holes of the corner doublers, the fail-safe ring, and the door frames of the passenger/crew door structures. The NPRM resulted from reports of corrosion behind the scuff plates at passenger/crew doors and the bulk cargo door and fatigue cracks on the corner doublers of the forward and aft passenger/crew door frames. The proposed actions were intended to prevent such corrosion and fatigue cracking, which could result in reduced structural integrity of the door surroundings.

Actions Since NPRM Was Issued

Since we issued the NPRM, we realized that we had previously issued AD 98-16-06, amendment 39-10682 (63 FR 40819, July 31, 1998), for all Airbus Model A310 series airplanes. That AD requires inspections of the lower door surrounding structure to detect cracks and corrosion, and repair if necessary. That AD also requires inspections to detect cracking of the holes of the corner doublers, the fail-safe ring, and the door frames of the door structures; and repair if necessary. In addition, that AD also provides for an optional terminating action for certain inspections.

FAA's Conclusions

Upon further consideration, we have determined that the inspections and terminating action in AD 98-16-06 are essentially identical to those specified in the NPRM. We are considering superseding AD 98-16-06 to mandate the optional terminating action and refer to the latest service information. Accordingly, the NPRM is withdrawn.

Regulatory Impact

Since this action only withdraws an NPRM, it is neither a proposed nor a final rule and therefore is not covered under Executive Order 12866, the Regulatory Flexibility Act, or DOT Regulatory Policies and Procedures (44 FR 11034, February 26, 1979).

List of Subjects in 14 CFR Part 39

Air transportation, Aircraft, Aviation safety, Safety.

The Withdrawal

Accordingly, we withdraw the NPRM, Docket No. FAA-2005-23007, Directorate Identifier 2005-NM-013-AD, which was published in the Federal Register on November 21, 2005 (70 FR 70048).

Issued in Renton, Washington, on July 14, 2006.
Ali Bahrami,
Manager, Transport Airplane Directorate, Aircraft Certification Service.

[FR Doc. E6-11711 Filed 7-21-06; 8:45 am]

BILLING CODE 4910-13-P